CONSUMER PRODUCT SAFETY DIVISION

Sunshine Meeting Notice

AGENCY: U.S. Consumer Product Safety Commission, Washington, DC 20207.

TIME AND DATE: Wednesday, November 29, 2000.

LOCATION: Room 410, East-West Towers, 4330 East-West Highway, Bethesda, Maryland.

STATUS: Closed to the Public—Pursuant to 5 U.S.C. 552b(f) (1) and 16 CFR 1013.4(b) (3), (7), (9) and (10) and submitted to the Federal Register pursuant to 5 U.S.C. 552b(e)(3).

MATTER TO BE CONSIDERED:

Compliance Status Report

The staff will brief the Commission on the status of various compliance matters.

For a recorded message containing the latest agenda information, call (301) 504-0709.

CONTACT PERSON FOR ADDITIONAL INFORMATION: Sadye E. Dunn, Office of the Secretary, 4330 East West Highway, Bethesda, MD 20207 (301) 504-0800.

Dated: November 17, 2000.
Sadye E. Dunn,
Secretary.

[FR Doc. 00-29885 Filed 11-17-00; 2:09 pm]

BILLING CODE 6355-01-M